DEPARTMENT OF ENERGY

Federal Energy Regulatory Commission

[Docket Nos. JR00-2-000 and Project No. 9100-011]

James M. Knott, Sr.; Errata Notice

May 23, 2002.

The Notice of Petition for Declaratory Order and Solicitation of Comments, Protests, and Motions to Intervene issued on May 15, 2002 (FR Vol. 67, page 35986, published 5/22/02) in the above-referenced proceedings, listed the Applicant Contact, person incorrectly in paragraph “h”. It should be corrected as follows:

Jamy B. Buchanan, Esq., Buchanan & Associates, 33 Mt. Vernon St., Boston, MA 02108, telephone: (617) 227-8410 to James M. Knott, Riverdale Power and Electric Co., Inc., 130 Riverdale St., Northbridge, MA 01534, telephone: (518) 234-4408.

Magalie R. Salas,
Secretary.

[FR Doc. 02-13491 Filed 5-29-02; 8:45 am]

BILLING CODE 6717-01-P